SMALL BUSINESS ADMINISTRATION

[Disaster Declaration # 11750 and # 11751]

West Virginia Disaster Number WV-00012

AGENCY: U.S. Small Business Administration.

ACTION: Amendment 1.

SUMMARY: This is an amendment of the Presidential declaration of a major disaster for the State of West Virginia (FEMA-1838-DR), dated 05/15/2009.

Incident: Severe Storms, Flooding, Mudslides, and Landslides.

Incident Period: 05/03/2009 and continuing.

DATES: Effective Date: 05/27/2009.

Physical Loan Application Deadline Date: 07/14/2009.

EIDL Loan Application Deadline Date: 02/15/2010.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the Presidential disaster declaration for the State of West Virginia, dated 05/15/2009 is hereby amended to include the following areas as adversely affected by the disaster:

Primary Counties: (Physical Damage and Economic Injury Loans):Mcdowell; Raleigh.

Contiguous Counties: (Economic Injury Loans Only):

West Virginia: Fayette; Kanawha; Summers.

Virginia: Tazewell.

All other information in the original declaration remains unchanged.

(Catalog of Federal Domestic Assistance Numbers 59002 and 59008)

Roger B. Garland,
Acting Associate Administrator for Disaster Assistance.

[FR Doc. E9-13029 Filed 6-3-09; 8:45 am]

BILLING CODE 8025-01-P